ENVIRONMENTAL PROTECTION AGENCY

40 CFR Part 52

[EPA-R01-OAR-2017-0138; FRL-9970-41-Region 1]

Air Plan Approval; New Hampshire; Rules for Open Burning and Incinerators; Withdrawal of Direct Final Rule

AGENCY: Environmental Protection Agency.

ACTION: Withdrawal of direct final rule.

SUMMARY: Due to the receipt of an adverse comment, the Environmental Protection Agency (EPA) is withdrawing the September 6, 2017 direct final rule approving a State Implementation Plan (SIP) revision submitted by the State of New Hampshire. New Hampshire's SIP revision establishes emission standards and operating practices for incinerators and wood waste burners that are not regulated pursuant to federal incinerator standards. This action is being taken in accordance with the Clean Air Act.

DATES: The direct final rule was published on September 6, 2017 (82 FR 42037), and is withdrawn effective November 6, 2017.

FOR FURTHER INFORMATION CONTACT: Alison Simcox, Air Quality Planning Unit, U.S. Environmental Protection Agency, New England Regional Office, 5 Post Office Square—Suite 100, (Mail code OEP05-2), Boston, MA 02109—3912, telephone (617) 918-1684, facsimile (617) 918-0684, email simcox.alison@epa.gov.

SUPPLEMENTARY INFORMATION: In the direct final rule, EPA stated that if adverse comments were submitted by October 6, 2017, the rule would be withdrawn and not take effect. EPA received an adverse comment prior to the close of the comment period and, therefore, is withdrawing the direct final rule. EPA will address the comment in a subsequent final action based upon the proposed rule also published on September 6, 2017 (82 FR 42054). EPA will not institute a second comment period on this action.

List of Subjects in 40 CFR Part 52

Environmental protection, Air pollution control, Carbon monoxide, Incorporation by reference, Intergovernmental relations, Lead, Nitrogen dioxide, Ozone, Particulate matter, Regional haze, Reporting and recordkeeping requirements, Sulfur oxides, Volatile organic compounds.

Dated: October 24, 2017.
Deborah A. Szaro,
Acting Regional Administrator, EPA New England.

PART 52—APPROVAL AND PROMULGATION OF IMPLEMENTATION PLANS

Accordingly, the amendments to 40 CFR 52.1520 published in the Federal Register on September 6, 2017 (82 FR 42037), on page 42040 are withdrawn effective November 6, 2017.

[FR Doc. 2017-24113 Filed 11-3-17; 8:45 am]

BILLING CODE 6560-50-P